POSTAL REGULATORY COMMISSION

[Docket No. MC2016-7; Order No. 2766]

New Postal Product

AGENCY: Postal Regulatory Commission.

ACTION: Notice.

SUMMARY: The Commission is noticing a recent Postal Service filing concerning the Postal Service's request to remove Global Direct Contracts from the competitive products list. This notice informs the public of the filing, invites public comment, and takes other administrative steps.

DATES: Comments are due: October 26, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Filings

III. Ordering Paragraphs

I. Introduction

In accordance with 39 U.S.C. 3642 and 39 CFR 3020.30 et seq., the Postal Service filed a formal request and associated supporting information to remove Global Direct Contracts from the competitive product list.¹

¹ Request of the United States Postal Service to Remove Global Direct Contracts from the Competitive Product List, October 16, 2015 (Request).

To support its Request, the Postal Service filed four attachments as follows:

• Attachment A—a redacted copy of the Governors' Decision No. 11-6 authorizing the removal of the product from the competitive product list, including a redacted management analysis;

• Attachment B—an application for nonpublic treatment of Governors' Decision No. 11-6;

• Attachment C—a Statement of Supporting Justification as required by 39 CFR 3020.32; and

• Attachment D—proposed changes to the Mail Classification Schedule (MCS) competitive product list.

The Postal Service seeks to remove Global Direct Contracts from the competitive product list due to the absence of customer demand for this service. Request at 1. The Postal Service asserts that removal of Global Direct Contracts is an attempt to align its service offerings with current customer needs and preferences. Id. at 2.

In addition, in the Statement of Supporting Justification, Giselle E. Valera, Vice President and Managing Director of Global Business, asserts that because the Postal Service is requesting product removal, the product's ability to cover its own costs has no impact on the instant Request. Id. Attachment C at 2. Ms. Valera maintains that removal of the product from the competitive product list attempts to ensure that there will be no issue of market dominant products subsidizing competitive products. Id.

II. Notice of Filings

The Commission establishes Docket No. MC2016-7 to consider the Request pertaining to the removal of Global Direct Contracts from the competitive product list.

Interested persons may submit comments on whether the Postal Service's filings in the captioned docket are consistent with the policies of 39 U.S.C. 3632, 3633, or 3642, 39 CFR part 3010, 39 CFR part 3015, and 39 CFR part 3020, subpart B and subpart E. Comments are due no later than October 26, 2015. The public portions of the filings can be accessed via the Commission's Web site (http://www.prc.gov).

The Commission appoints James F. Callow to serve as Public Representative in this docket.

III. Ordering Paragraphs

It is ordered:

1. The Commission establishes Docket No. MC2016-7 to consider the Postal Service's Request.

2. Pursuant to 39 U.S.C. 505, James F. Callow is appointed to serve as an officer of the Commission (Public Representative) to represent the interests of the general public in these proceedings.

3. Comments by interested persons in these proceedings are due no later than October 26, 2015.

4. The Secretary shall arrange for publication of this order in the Federal Register.

Ruth Ann Abrams,
Acting Secretary.

[FR Doc. 2015-26925 Filed 10-22-15; 8:45 am]

BILLING CODE 7710-FW-P